DEPARTMENT OF THE INTERIOR

National Park Service

[NPS-WASO-NRNHL-12980; PPWOCRADI0, PCU00RP14.R50000]

National Register of Historic Places; Notification of Pending Nominations and Related Actions

Nominations for the following properties being considered for listing or related actions in the National Register were received by the National Park Service before April 27, 2013. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by June 4, 2013. Before including your address, phone number, email address, or other personal identifying information in your comment, you should be aware that your entire comment—including your personal identifying information—may be made publicly available at any time. While you can ask us in your comment to withhold your personal identifying information from public review, we cannot guarantee that we will be able to do so.

Dated: May 1, 2013.
Alexandra Lord,
Acting Chief, National Register of Historic Places/National Historic Landmarks Program.

ALABAMA

Jackson County

Skyline Commissary, (Skyline Farms Resettlement Project, Jackson County, Alabama MPS) NE. corner of jct. of Cty. Rds., 25 & 107, Scottsboro, 13000365

LOUISIANA

Rapides Parish

Alexandria Post-War Suburbs Historic District, Bounded by Bayou Hynson, Darby, Texas & Elliott Sts., Alexandria, 13000366

MASSACHUSETTS

Barnstable County

Cobb Memorial Library, 13 Truro Center Rd., Truro, 13000367

MISSOURI

St. Louis Independent city

O'Fallon Park Historic District, Roughly bounded by Newstead, Pope, Florissant, Harris, Algernon, Adelaide, Warne, Green Lea, Fair & Lee Aves., St. Louis, 13000368

MONTANA

Yellowstone County

Northern Hotel, 19 N. Broadway, Billings, 13000369

NEW YORK

Erie County

Tonawanda Municipal Building, 2919 Delaware Ave., Kenmore, 13000370

Ontario County

Knights of the Maccabees Hall, 4270 NY 21, Cheshire, 13000371

Steuben County

First Baptist Society of Bath, The, (Bath Village MRA) 14 Howell St., Bath, 13000372

Suffolk County

Cherry Grove Community House and Theatre, 180 Bayview Walk, Cherry Grove, 13000373

VERMONT

Windsor County

Beaver Meadow School, (Educational Resources of Vermont MPS) 246 Chapel Hill Rd., Norwich, 13000374

Root School, (Educational Resources of Vermont MPS) 987 Union Village Rd., Norwich, 13000375

WISCONSIN

Walworth County

Whitewater Passenger Depot, 301 W. Whitewater St., Whitewater, 13000376

A request for removal has been made for the following resources:

ARKANSAS

Hempstead County

Columbus Presbyterian Church, AR 73, Columbus, 82000823

Hot Spring County

Bethel African Methodist Episcopal Church, 519 W. Page St., Malvern, 04000496

[FR Doc. 2013-11890 Filed 5-17-13; 8:45 am]

BILLING CODE 4312-51-P